DEPARTMENT OF ENERGY

Federal Energy Regulatory Commission

Combined Notice of Filings #1

Take notice that the Commission received the following electric rate filings:

Docket Numbers: ER10-2774-003.

Applicants: Arizona Solar One LLC.

Description: Notice of Non-Material Change in Status of Arizona Solar One LLC.

Filed Date: 10/28/13.

Accession Number: 20131028-5174.

Comments Due: 5 p.m. ET 11/18/13.

Docket Numbers: ER14-202-000.

Applicants: Midcontinent Independent System Operator, Inc.

Description: Midcontinent Independent System Operator, Inc. submits 10-28-13 SSR Notification to be effective 12/27/2013.

Filed Date: 10/28/13.

Accession Number: 20131028-5081.

Comments Due: 5 p.m. ET 11/18/13.

Docket Numbers: ER14-203-000.

Applicants: Citizens Sunrise Transmission LLC.

Description: Citizens Sunrise Transmission LLC submits Annual TRBAA Filing to be effective 1/1/2014.

Filed Date: 10/28/13.

Accession Number: 20131028-5083.

Comments Due: 5 p.m. ET 11/18/13.

Docket Numbers: ER14-204-000.

Applicants: Duke Energy Progress, Inc.

Description: Duke Energy Progress, Inc. submits Cancellation of Duke Energy Progress Rate Schedules to be effective 12/27/2013.

Filed Date: 10/28/13.

Accession Number: 20131028-5114.

Comments Due: 5 p.m. ET 11/18/13.

Docket Numbers: ER14-205-000.

Applicants: Duke Energy Progress, Inc.

Description: Duke Energy Progress, Inc. submits Rate Schedules Name Change Filing No. 1 to be effective 12/27/2013.

Filed Date: 10/28/13.

Accession Number: 20131028-5116.

Comments Due: 5 p.m. ET 11/18/13.

Docket Numbers: ER14-206-000.

Applicants: Midcontinent Independent System Operator, Inc.

Description: Midcontinent Independent System Operator, Inc. submits 10-28-13 MISO TOA revs re SOC to be effective 12/28/2013.

Filed Date: 10/28/13.

Accession Number: 20131028-5126.

Comments Due: 5 p.m. ET 11/18/13.

Docket Numbers: ER14-207-000.

Applicants: PJM Interconnection, L.L.C.

Description: PJM Interconnection, L.L.C. submits Revisions to the PJM OATT regarding Phasor Measurement Units to be effective 12/28/2013.

Filed Date: 10/28/13.

Accession Number: 20131028-5133.

Comments Due: 5 p.m. ET 11/18/13.

Docket Numbers: ER14-208-000.

Applicants: Duke Energy Progress, Inc.

Description: Duke Energy Progress, Inc. submits Camden FRPPA—RS No. 197 to be effective 1/1/2014.

Filed Date: 10/28/13.

Accession Number: 20131028-5148.

Comments Due: 5 p.m. ET 11/18/13.

Docket Numbers: ER14-209-000.

Applicants: PowerOne Corporation.

Description: PowerOne Corporation submits MBR Application to be effective 11/28/2013.

Filed Date: 10/28/13.

Accession Number: 20131028-5162.

Comments Due: 5 p.m. ET 11/18/13.

Docket Numbers: ER14-210-000.

Applicants: Entergy Arkansas, Inc.

Description: Entergy Arkansas, Inc. submits Compliance Filing to be effective 4/29/2011.

Filed Date: 10/28/13.

Accession Number: 20131028-5167.

Comments Due: 5 p.m. ET 11/18/13.

Docket Numbers: ER14-211-000.

Applicants: Entergy Gulf States Louisiana, L.L.C.

Description: Entergy Gulf States Louisiana, L.L.C. submits Settlement Compliance Filing to be effective 4/29/2011.

Filed Date: 10/28/13.

Accession Number: 20131028-5168.

Comments Due: 5 p.m. ET 11/18/13.

Docket Numbers: ER14-212-000.

Applicants: Entergy Louisiana, LLC.

Description: Entergy Louisiana, LLC submits Settlement Compliance Filing—EL10-65 to be effective 4/29/2011.

Filed Date: 10/28/13.

Accession Number: 20131028-5169.

Comments Due: 5 p.m. ET 11/18/13.

Docket Numbers: ER14-213-000.

Applicants: Entergy Mississippi, Inc.

Description: Entergy Mississippi, Inc. submits EL10-65 Compliance Filing to be effective 4/11/2013.

Filed Date: 10/28/13.

Accession Number: 20131028-5170.

Comments Due: 5 p.m. ET 11/18/13.

Docket Numbers: ER14-214-000.

Applicants: Entergy New Orleans, Inc.

Description: Entergy New Orleans, Inc. submits EL10-65 Compliance Filing—Settlement Agreement to be effective 4/29/2011.

Filed Date: 10/28/13.

Accession Number: 20131029-5000.

Comments Due: 5 p.m. ET 11/18/13.

Docket Numbers: ER14-215-000.

Applicants: Entergy Texas, Inc.

Description: Entergy Texas, Inc. submits Compliance Filing—Settlement Agreement to be effective 4/29/2011.

Filed Date: 10/28/13.

Accession Number: 20131029-5001.

Comments Due: 5 p.m. ET 11/18/13.

Take notice that the Commission received the following electric securities filings:

Docket Numbers: ES13-56-000

Applicants: Transource Missouri, LLC.

Description: Amendment to September 20, 2013 Application of Transource Missouri, LLC for Authorization Under Section 204(A) of the Federal Power Act to Borrow Up to $350 Million.

Filed Date: 10/29/13.

Accession Number: 20131029-5035.

Comments Due: 5 p.m. ET 11/8/13.

Docket Numbers: ES14-6-000.

Applicants: PECO Energy Company.

Description: Application of PECO Energy Company under Section. 204 of the Federal Power Act for the Authority to Issue Securities.

Filed Date: 10/28/13.

Accession Number: 20131028-5198.

Comments Due: 5 p.m. ET 11/18/13.

Docket Numbers: ES14-7-000.

Applicants: Commonwealth Edison Company.

Description: Application of Commonwealth Edison Company under Section. 204 of the Federal Power Act for the Authority to Issue Securities.

Filed Date: 10/28/13.

Accession Number: 20131028-5199.

Comments Due: 5 p.m. ET 11/18/13.

Take notice that the Commission received the following land acquisition reports:

Docket Numbers: LA13-3-000.

Applicants: CalPeak Power LLC, CalPeak Power—Border LLC, CalPeak Power—Enterprise LLC, CalPeak Power—Panoche LLC, CalPeak Power—Vaca Dixon LLC Starwood Power-Midway LLC.

Description: Quarterly Land Acquisition Report of CalPeak Power LLC, et al.

Filed Date: 10/28/13.

Accession Number: 20131028-5122.

Comments Due: 5 p.m. ET 11/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2013.
Nathaniel J. Davis, Sr.,
Deputy Secretary.

[FR Doc. 2013-26736 Filed 11-7-13; 8:45 am]

BILLING CODE 6717-01-P